NUCLEAR WASTE TECHNICAL REVIEW BOARD

Notice of Meeting

Board Meeting: January 28, 2003—Las Vegas, Nevada: The Nuclear Waste Technical Review Board will hold a meeting to discuss DOE technical and scientific activities related to the proposed development of a repository for spent nuclear fuel and high-level radioactive waste disposal at Yucca Mountain, Nevada. Issues to be discussed include the Yucca Mountain science program, materials testing, and barrier analyses.

Pursuant to its authority under section 5051 of Public Law 100-203, Nuclear Waste Policy Amendments Act of 1987, on Tuesday, January 28, 2003, the Nuclear Waste Technical Review Board (Board) will meet in Las Vegas, Nevada, to discuss U.S. Department of Energy (DOE) technical and scientific activities related to a proposed repository for spent nuclear fuel and high-level radioactive waste at Yucca Mountain, Nevada. The meeting is open to the public, and opportunities for public comment will be provided. The Board is charged by Congress with reviewing the technical and scientific validity of DOE activities related to managing spent nuclear fuel and high-level radioactive waste.

The Board meeting will be held at the Crowne Plaza Hotel; 4255 South Paradise Road; Las Vegas, Nevada 89109. The telephone number is (702) 369-4400; the fax number is (702) 369-4330. The meeting will start at 8 a.m.

Following the call to order and introductory statements, a general overview of the DOE program and a briefing on the Yucca Mountain project will be presented. The DOE will then discuss its plans related to operating a waste management system, including waste acceptance, packaging, transportation, repackaging, and emplacement. This presentation will be followed by an update on the DOE's science and engineering activities. After lunch, a contractor for the State of Nevada will present a status report on state-sponsored corrosion studies, and the DOE will update the Board on its materials testing activities, followed by a presentation on waste package manufacturing and closure welds. That presentation will be followed by discussions of barrier analyses.

Two public comment periods have been scheduled: a short period just before lunch for those who are unable to attend the entire meeting and a second session at the end of the day. Those wanting to speak during the public comment periods are encouraged to sign the “Public Comment Register” at the check-in table. A time limit may have to be set on individual remarks, but written comments of any length may be submitted for the record.

A detailed agenda will be available approximately one week before the meeting. Copies of the agenda can be requested by telephone or obtained from the Board's Web site at http://www.nwtrb.gov. Beginning on March 2, 2003, transcripts of the meeting will be available on the Board's Web site, via e-mail, on computer disk, and on a library-loan basis in paper format from Davonya Barnes of the Board staff.

A block of rooms has been reserved at the Crowne Plaza. Reservations must be made by January 10, 2003, to obtain the meeting rate. When making a reservation, please state that you are attending the Nuclear Waste Technical Review Board meeting. For more information, contact the NWTRB; Karyn Severson, External Affairs; 2300 Clarendon Boulevard, Suite 1300; Arlington, VA 22201-3367; telephone 703-235-4473; fax 703-235-4495; or by “contact form” at http://www.nwtrb.gov.

The Nuclear Waste Technical Review Board was created by Congress in the Nuclear Waste Policy Amendments Act of 1987. The Board's purpose is to evaluate the technical and scientific validity of activities undertaken by the Secretary of Energy related to disposal of the nation's spent nuclear fuel and high-level radioactive waste. In the same legislation, Congress directed the DOE to characterize a site at Yucca Mountain, Nevada, to determine its suitability as the location of a potential repository for permanently disposing of spent nuclear fuel and high-level radioactive waste.

Dated: December 20, 2002.
William D. Barnard,
Executive Director, Nuclear Waste Technical Review Board.

[FR Doc. 02-32633 Filed 12-26-02; 8:45 am]

BILLING CODE 6820-AM-M